NUCLEAR REGULATORY COMMISSION

[NRC-2022-0001]

Sunshine Act Meetings

TIME AND DATE: Week of July 25, 2022. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Wendy.Moore@nrc.gov or Betty.Thweatt@nrc.gov.

MATTERS TO BE CONSIDERED:

Week of July 25, 2022

Friday, July 29, 2022

2:00 p.m. Affirmation Session (Public Meeting) (Tentative); Final Rule: NuScale Small Modular Reactor Design Certification (RIN 3150-AJ98; NRC-2017-0029) (Tentative); (Contact: Monika Coflin: 301-415-5932)

Additional Information: By a vote of 3-0 on July 28, 2022, the Commission determined pursuant to 5 U.S.C. 552b(e)(1) and 10 CFR 9.107 that this item be affirmed with less than one week notice to the public. The item will be affirmed in the meeting being held on July 29, 2022. The public is invited to attend the Commission's meeting live; via teleconference. Details for joining the teleconference in listen only mode at https://www.nrc.gov/pmns/mtg.

CONTACT PERSON FOR MORE INFORMATION: For more information or to verify the status of meetings, contact Wesley Held at 301-287-3591 or via email at Wesley.Held@nrc.gov.

The NRC is holding the meeting under the authority of the Government in the Sunshine Act, 5 U.S.C. 552b.

Dated: July 29, 2022.
For the Nuclear Regulatory Commission.
Monika G. Coflin,
Technical Coordinator, Office of the Secretary.

[FR Doc. 2022-16596 Filed 7-29-22; 4:15 pm]

BILLING CODE 7590-01-P